DEPARTMENT OF ENERGY

Federal Energy Regulatory Commission

[ Project Nos. 14260-000, 14264-000, et al.]

Lock+ Hydro Friends Fund XII, BOST2, LLC, et al.; Notice Announcing Filing Priority for Preliminary Permit Applications

| Project No.
Lock+ Hydro Friends Fund XII | 14260-000
BOST2, LLC | 14264-000
Riverbank Hydro No. 21, LLC | 14267-000
FFP Project 96, LLC | 14273-000

On February 28, 2012, the Commission held a drawing to determine priority between four competing preliminary permit applications with identical filing times. In the event that the Commission concludes that none of the applicants' plans are better adapted than the other to develop, conserve, and utilize in the public interest the water resources of the region at issue, the priority established by this drawing will serve as the tiebreaker. Based on the drawing, the order of priority is as follows:

1. FFP Project 96, LLC: Project No. 14273-000.

2. BOST2, LLC: Project No. 14264-000.

3. Lock+ Hydro Friends Fund XII: Project No. 14260-000.

4. Riverbank Hydro No. 21, LLC: Project No. 14267-000.

Dated: February 29, 2012.
Nathaniel J. Davis, Sr.,
Deputy Secretary.

[FR Doc. 2012-5343 Filed 3-5-12; 8:45 am]

BILLING CODE 6717-01-P